DEPARTMENT OF TRANSPORTATION

Federal Motor Carrier Safety Administration

[Docket No. FMCSA-2006-26367]

Motor Carrier Safety Advisory Committee (MCSAC): Public Meeting of Subcommittee

AGENCY: Federal Motor Carrier Safety Administration (FMCSA), DOT.

ACTION: Notice of subcommittee.

SUMMARY: FMCSA announces that the Motor Carrier Safety Advisory Committee's subcommittee on the U.S.-Mexico Cross Border Long Haul Trucking Pilot Program will meet on Monday, July 28, 2014. The meeting is open to the public and there will be a 15-minute public comment period at the end of the day.

DATES: The meeting will be held on Monday, July 28, 2014, from 9 a.m. to 4:30 p.m., Eastern Daylight Time (E.D.T.). The meeting will be held at FMCSA's National Training Center (NTC), 1310 North Courthouse Road, Suite 600, Arlington, VA 22201. The NTC is located near the Courthouse Metro station.

Copies of MCSAC Task Statement 11-3 and an agenda for the meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, contact Eran Segev at (617) 494-3174, eran.segev@dot.gov, by Monday, July 21, 2014.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The MCSAC provides advice and recommendations to the FMCSA Administrator on motor carrier safety programs and regulations, and operates in accordance with the Federal Advisory Committee Act (5 U.S.C. App 2).

Long-Haul Cross Border Trucking Pilot Program Task

In 2011, FMCSA directed the MCSAC to form a subcommittee consider Task 11-03, regarding Oversight of the Long-Haul Cross Border Trucking Pilot Program. Known as the Cross Border Subcommittee, FMCSA requested that the MCSAC serve as the monitoring Federal advisory committee for the Pilot Program. Specifically, FMCSA requested that MCSAC:

• Assess the safety record of participating Mexico-domiciled motor carriers;

• Continue to advise FMCSA concerning designated tasks related to the pilot program; and

• Issue a final report addressing whether FMCSA conducted the Pilot Program in a manner consistent with the objectives outlined in its Federal Register Notice.

Procedurally, the subcommittee would present its recommendations to the full MCSAC for review and discussion with the final report submitted to the Agency. The subcommittee held its first meeting on March 31, 2011, and has held subsequent meetings since that time.

II. Meeting Participation

Oral comments from the public will be heard during the last fifteen minutes of the meeting. Should all public comments be exhausted prior to the end of the specified period, the comment period will close. Members of the public may submit written comments by Monday, July 21, 2014, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: July 1, 2014.
Larry W. Minor,
Associate Administrator for Policy.

[FR Doc. 2014-15953 Filed 7-7-14; 8:45 am]

BILLING CODE